DEPARTMENT OF COMMERCE

Foreign-Trade Zones Board

[B-56-2024]

Foreign-Trade Zone (FTZ) 49, Notification of Proposed Production Activity; Merck, Sharp & Dohme LLC; (Pharmaceutical Products for Research and Development); Rahway, New Jersey

Merck, Sharp & Dohme LLC submitted a notification of proposed production activity to the FTZ Board (the Board) for its facility in Rahway, New Jersey, within Subzone 49Y. The notification conforming to the requirements of the Board's regulations (15 CFR 400.22) was received on October 18, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products for research and development include MK-2828 and MK-3214 cardiovascular disease drug products, MK-2420 autoimmune disease drug product, MK-4646 HIV drug product, and MK-0472 oncology drug product (duty free).

The proposed foreign-status materials/components include MK-2828 and MK-3214 cardiovascular disease active pharmaceutical ingredients (API), MK-2420 autoimmune disease API, MK-4646 HIV API, and MK-0472 oncology API (duty rate, 6.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is December 16, 2024.

A copy of the notification will be available for public inspection in the “Online FTZ Information System” section of the Board's website.

For further information, contact Diane Finver at Diane.Finver@trade.gov.

Dated: October 30, 2024.
Elizabeth Whiteman,
Executive Secretary.

[FR Doc. 2024-25580 Filed 11-1-24; 8:45 am]

BILLING CODE 3510-DS-P